FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel-Operating Common Carrier Ocean Transportation Intermediary Applicants:

Lorimer Cargo Express, Inc., 1924 S.W. 100th Ave., Miramar, FL 33025, Officer: Rafael G. Polanco, President (Qualifying Individual).

La Ocean Freight Inc., 3428 Vantage Point Drive, Rowland Heights, CA 91748, Officers: Catherine Tsai, Vice President (Qualifying Individual), Christin Liu, President.

Comis International, 690 Knox Street, #220, Torrance, CA 90502, Frank Noah, Sole Proprietor.

Advanced Marketing Services, Inc., 5880 Oberlin Drive, Suite 400, San Diego, CA 92121, Officers: Keli Parker, Vice President (Qualifying Individual), Bruce C. Myers, President.

Non-Vessel-Operating Common Carrier and Ocean Freight Forwarder Transportation Intermediary Applicants:

United Global Logistics Inc., 227 Bryant Avenue, Floral Park, NY 11001, Officers: Mohamed Yeheya Khan, President (Qualifying Individual), Sharmaine Enoka Khan, Vice President.

Marine Services International, Inc., 14502 South Industrial Avenue, Cleveland, OH 44137, Officers: Michelle Lynn Frank, President (Qualifying Individual), David Michael Magden, Vice President.

Panda Logistics USA, Inc., 19600 S. Alameda Street, Suite #1, E. Rancho Dominguez, CA 90221, Officer: Cooper Chao, CEO (Qualifying Individual).

Royal Pacific Shipping Co., 58 Leslie Street, Newark, NJ 07108, Officers: Atta Boamah, President (Qualifying Individual), Alice Boamah, Vice President.

Santo Domingo Shipping Inc., 4707 NW. 72nd Avenue, Miami, FL 33166, Officers: Mercedes D. Rodriguez, Vice President (Qualifying Individual), Carlos J. Rodriguez, President.

DFYoung-Del Med, Inc., 1235 Westlakes Drive, Suite 255, Berwyn, PA 19312-2401, Officers: Aaron Wesley Wyatt, IV, Vice President (Qualifying Individual), John Hardy, Vice President.

Yavid Corporation, 5579 NW., 72 Avenue, Miami, FL 33166, Officers: Luis Vidal, President (Qualifying Individual), Ramona de Lourdes Gonzalez, Director.

ACE Logistics, LLC, 11188 Salentino Avenue, Las Vegas, NV 89138, Officer: Mamerto, S. Mercado, Operating Manager (Qualifying Individual).

Ocean Freight Forwarder—Ocean Transportation Intermediary Applicants:

Login Logistics, LLC, 5230 Pacific Concourse Drive, #105, Los Angeles, CA 90045, Officers: Steen Marcuslund, Manager (Qualifying Individual), John Fitzpatrick, Manager.

Upak WeShip, Inc., 10610 Iron Bridge Road, Unit 6, Jessup, MD 20794, Officers: Allison Elizabeth Kane, President (Qualifying Individual), Mark Nash, Vice President.

Dated: June 23, 2006.
Bryant L. VanBrakle,
Secretary.

[FR Doc. 06-5856 Filed 6-27-06; 8:45 am]

BILLING CODE 6730-01-P